DEPARTMENT OF DEFENSE

Department of the Army, Corps of Engineers

Notice of Intent To Prepare a Draft Environmental Impact Statement/Environmental Impact Report for a Permit Application for the Proposed San Pedro Waterfront Project at the Port of Los Angeles, in Los Angeles County, California

AGENCY: U.S. Army Corps of Engineers, Los Angeles District, DoD.

ACTION: Notice of Intent (NOI).

SUMMARY: The U.S. Army Corps of Engineers (Corps) is considering an application for Section 404 of the Clean Water Act and Section 10 of the Rivers and Harbors Act permits authorizing dredge and fill activities to create three new harbors (North Harbor, Downtown Harbor, and 7th Street Harbor) along the San Pedro Waterfront, construct pile-supported structures to provide additional areas for land-side use, and construct a waterfront promenade and Outer Harbor cruise ship terminal. The reason for the new NOI is the scope of the previous project, titled From Bridge to Breakwater San Pedro Waterfront and Promenade, was reduced, a new permit application was submitted, and the proposed project has been modified to focus on infrastructure improvements, cruise program expansion, and to increase public access to the waterfront.

The primary Federal concern is the dredging and discharging of fill material within waters of the United States and potential significant impacts resulting from such dredging and discharges to the environment. Therefore, in accordance with the National Environmental Policy Act (NEPA), the Corps is requiring the preparation of an Environmental Impact Statement (EIS) prior to consideration of any permit action. The Corps may ultimately make a determination to permit or deny the above project, or permit or deny modified versions of the above project.

Pursuant to the California Environmental Quality Act (CEQA), the Port of Los Angeles will serve as Lead Agency in preparing an Environmental Impact Report (EIR) for its consideration of development approvals within its jurisdiction. The Corps and the Port of Los Angeles have agreed to jointly prepare a Draft EIS/EIR in order to optimize efficiency and avoid duplication. The Draft EIS/EIR is intended to be sufficient in scope to address the Federal, state, and local requirements and environmental issues concerning the proposed activities and permit approvals.

FOR FURTHER INFORMATION CONTACT: Comments and questions regarding scoping of the Draft EIS/EIR may be addressed to: U.S. Army Corps of Engineers, Los Angeles District, Regulatory Branch, ATTN: File Number 2005-01271-SDM, P.O. Box 532711, Los Angeles, California 90053-2325, or spencer.d.macneil@usace.army.mil. Comments or questions can also be sent to Jan Green Rebstock, Port of Los Angeles, Environmental Management Division, 425 S. Palos Verdes St., San Pedro, CA 90731, or ceqacomments@portla.org. Dr. Spencer D. MacNeil can be reached at 805-585-2149, and Jan Green Rebstock can be reached at 310-732-3949.

SUPPLEMENTARY INFORMATION: 1. Project Site: The proposed project is located in the southern end of the City of Los Angeles along the west side of the Port of Los Angeles' Main Channel, from the Vincent Thomas Bridge to Berths 49-50. The proposed dredge activities would take place at Berths 87-89, 86, and the foot of 7th Street. In addition, the proposed construction of a waterfront promenade would affect mudflat at Berth 78; impacts to this mudflat would be mitigated.

2. Proposed Action: The project applicant, the Port of Los Angeles, proposes to perform modifications to the existing shorefront, including water cutouts of approximately 9.21 acres to increase the net water area (up to 4.98 acres) to provide for a variety of waterfront uses, including berthing for visiting tall ships, leisure craft, tugboats, and other recreational, commercial, and port-related uses, without impeding the public's right to free navigation; and utilize and increase the value of deep water in the Outer Harbor and Main Channel to accommodate existing and projected growth in the cruise ship industry. Specifically, the proposed action includes approximately 463,000 square feet (sf) and 808,000 cubic yards (cy) of excavation and dredging (of which approximately 401,000 sf and 605,000 cy of new water area and volume will be added below the mean high tide line), with approximately 70,000 sf of rock slope protection. The project would also involve installation of 618 new piles and 910 linear feet of sheet pile bulkheads, and construction of approximately 211,000 square feet of new wharf structures, decks, piers, and floating docks. Additionally, the project would remove or demolish approximately 990 linear feet of existing retention dikes (or bulkheads) and approximately 96,800 square feet (2.22 acres) of wharf structures, decks, piers, and docks. In total, the proposed action would create or uncover approximately 497,800 sf (11.43 acres) of open water, and cover approximately 281,000 sf (6.45 acres) of existing water, for a net increase of approximately 216,800 sf (4.98 acres) of open water area within the harbor.

Due to the creation of the new harbors, the project is anticipated to create a total of approximately 808,000 cubic yards of dredge material. Disposal of clean dredge material is planned for LA-2 or LA-3 offshore disposal, with upland disposal of contaminated sediments. Ocean disposal would also require authorization pursuant to Section 103 of the Marine Protection, Research, and Sanctuaries Act. Should other approved in-harbor disposal sites become available, they will also be considered.

3. Issues: There are several potential environmental issues that will be addressed in the Draft EIS/EIR. Additional issues may be identified during the scoping process. Issues initially identified as potentially significant include:

1. Aesthetic and visual impacts from construction and operation;

2. Air quality impacts from construction, operation, increased vehicle and cruise ship emissions, and contributions to global warming and greenhouse gases;

3. Biological impacts to marine and terrestrial plants and wildlife;

4. Cultural resources, both historic buildings and structures and historic and prehistoric archaeology;

5. Geological issues, including dredging and stabilization of fill areas in an area of known seismic activity;

6. Hazards and hazardous materials related to existing and former activities that have contaminated soil and groundwater in the Port, or pose hazardous risks related to ongoing operations, and hazards and risk of upset due to terrorism;

7. Hydrology and water quality from disturbance of sediment, increased cruise operations, and runoff from development;

8. Noise from construction, existing and future operations, and increased traffic;

9. Public services related to provision of fire, police, emergency response, and other public service agencies;

10. Recreation related to impacting existing recreation, and the beneficial impact of providing new recreational opportunities;

11. Traffic and transportation, including marine navigation and ground transportation;

12. Utilities and services as a result of an increased demand for such services; and

13. Cumulative impacts from past, present, and foreseeable future projects.

4. Alternatives: Several alternatives are being considered for the proposed action. The Draft EIS/EIR will include a coequal analysis of the project alternatives considered. Alternatives being considered for the proposed project include an alternative development scenario, which includes one proposed cruise ship berth in the Outer Harbor, modifications to parking areas and transportation corridors, and optional locations for the Red Car Museum and maintenance facility; a No Project/No Action Alternative that would not implement any of the project elements; and a No Federal Action Baseline Alternative that would involve building the project without the water cuts and construction of the Outer Harbor Cruise Terminal, which require Corps permits. These alternatives will be further formulated and developed during the scoping process. Additional alternatives that may be developed during scoping will also be considered in the Draft EIS/EIR.

5. Scoping Process: A Notice of Intent for the original project design, titled From Bridge to Breakwater San Pedro Waterfront and Promenade, was published in the Federal Register on August 8, 2005. Three public meetings were held to obtain public comments. The Corps permit application reflecting the new project design has since been submitted. A new public meeting will be held to receive public comment and assess public concerns regarding the appropriate scope and preparation of the Draft EIS/EIR for the modified project. Participation in the public meeting by federal, state, and local agencies and other interested organizations and persons is encouraged.

The Corps of Engineers will also be consulting with the U.S. Fish and Wildlife Service under the Endangered Species Act and Fish and Wildlife Coordination Act, and with the National Marine Fisheries Service under the Magnuson-Stevens Fishery Conservation and Management Act. Additionally, the EIS/EIR will assess the consistency of the proposed action with the Coastal Zone Management Act and potential water quality impacts pursuant to Section 401 of the Clean Water Act. The public scoping meeting for the NOP/NOI will be held on January 23, 2007 at the Crowne Plaza Hotel in San Pedro, located at 601 South Palos Verdes Street. Written comments will be accepted until February 28, 2007.

6. Availability of the Draft EIS: The Draft EIS/EIR is expected to be published and circulated in late Fall 2007, and a public meeting will be held after its publication.

Dated: December 13, 2006.
David J. Castanon,
Chief, Regulatory Branch, Corps of Engineers.

[FR Doc. E6-21897 Filed 12-21-06; 8:45 am]

BILLING CODE 3710-KF-P